DEPARTMENT OF TREASURY

Office of the Comptroller of the Currency

12 CFR Part 44

[Docket No. OCC-2020-0002]

RIN 1557-AE67

FEDERAL RESERVE SYSTEM

12 CFR Part 248

[Docket No. R-1694]

RIN 7100-AF70

FEDERAL DEPOSIT INSURANCE CORPORATION

12 CFR Part 351

RIN 3064-AF17

COMMODITY FUTURES TRADING COMMISSION

17 CFR Part 75

RIN 3038-AE93

SECURITIES AND EXCHANGE COMMISSION

17 CFR Part 255

[Release no. BHCA-9A; File no. S7-02-20]

RIN 3235-AM70

Prohibitions and Restrictions on Proprietary Trading and Certain Interests in, and Relationships With, Hedge Funds and Private Equity Funds; Correction

AGENCY: Office of the Comptroller of the Currency, Treasury (OCC); Board of Governors of the Federal Reserve System (Board); Federal Deposit Insurance Corporation (FDIC); Securities and Exchange Commission (SEC); and Commodity Futures Trading Commission (CFTC).

ACTION: Notification of correction.

SUMMARY: The OCC, Board, FDIC, SEC, and CFTC (together, the agencies) are issuing this correction to make technical corrections to the Federal Register rule adopting amendments to the regulations implementing section 13 of the Bank Holding Company Act published on July 31, 2020.

DATES: Effective October 1, 2020.

FOR FURTHER INFORMATION CONTACT:

OCC: Tabitha Edgens, Counsel; Mark O'Horo, Senior Attorney, Chief Counsel's Office, (202) 649-5490; for persons who are deaf or hearing impaired, TTY, (202) 649-5597, Office of the Comptroller of the Currency, 400 7th Street SW, Washington, DC 20219.

Board: Sarah Podrygula, Attorney, (202) 912-4658, or Kirin Walsh, Attorney, (202) 452-3058, Legal Division, Board of Governors of the Federal Reserve System, 20th and C Streets NW, Washington, DC 20551. For users of Telecommunication Device for the Deaf (TDD), (202) 263-4869.

FDIC: Michael B. Phillips, Counsel, (202) 898-3581, or Annmarie H. Boyd, Counsel, (202) 898-3714, Legal Division, Federal Deposit Insurance Corporation, 550 17th Street NW, Washington, DC 20429.

CFTC: Cantrell Dumas, Special Counsel, (202) 418-5043, cdumas@cftc.gov, Division of Swap Dealer and Intermediary Oversight; Mark Fajfar, Assistant General Counsel, (202) 418-6636, mfajfar@cftc.gov, Office of the General Counsel; Commodity Futures Trading Commission, Three Lafayette Centre, 1155 21st Street NW, Washington, DC 20581.

SEC: William Miller, Senior Counsel, or Jennifer Songer, Branch Chief at (202) 551-6787 or IArules@sec.gov, Investment Adviser Regulation Office, Division of Investment Management, U.S. Securities and Exchange Commission, 100 F Street NE, Washington, DC 20549.

You may also contact any of the individuals for these agencies named in the final rule published on July 31, 2020, at 85 FR 46422.

SUPPLEMENTARY INFORMATION: The agencies are issuing this correction to make technical corrections to the final rule adopting amendments to the regulations implementing section 13 of the Bank Holding Company Act published on July 31, 2020 (the 2020 amendments).¹ Two of the amendatory instructions of the 2020 amendments did not accurately reflect changes to the agencies' rules as described in the Supplementary Information section of the 2020 amendments. This correction corrects the agencies' Federal Register notice consistent with the Supplementary Information section of the 2020 amendments. Specifically, this correction corrects an instruction stating that the agencies were revising paragraph (d)(1) of section __.20 of the 2020 amendments when the agencies intended to revise the introductory text to paragraph (d)(1). This correction also corrects instructions concerning 17 CFR 255.10(c)(11) and 75.10(c)(11) to retain the introductory text for those paragraphs. The agencies note that the effective date for the 2020 amendments is unchanged and continues to be October 1, 2020.

¹ 85 FR 46422 (July 31, 2020).

Correction

In the Federal Register of July 31, 2020, FR Rule Doc. 2020-15525, beginning on page 46422, is corrected as follows:

Title 12

§ 44.20 [Corrected]

1. On page 46502, in the third column, in 12 CFR 44.20, in amendment 7b., add the words “introductory text” after the words “paragraph (d)(1)”.

§ 248.20 [Corrected]

2. On page 46509, in the second column, in 12 CFR 248.20, in amendment 14b., add the words “introductory text” after the words “paragraph (d)(1)”.

§ 351.20 [Corrected]

3. On page 46516, in the first column, in 12 CFR 351.20, in amendment 21b., add the words “introductory text” after the words “paragraph (d)(1)”.

Title 17

§ 75.10 [Corrected]

4. On page 46517, third column, in 17 CFR 75.10, remove “(11) * * *” and add in its place “(11) SBICs and public welfare investment funds. An issuer:”

§ 75.20 [Corrected]

5. On page 46522, in the second column, in 17 CFR 75.20, in amendment 28b., add the words “introductory text” after the words “paragraph (d)(1)”.

§ 255.10 [Corrected]

6. On page 46524, second column, in 17 CFR 255.10, remove “(11) * * *” and add in its place “(11) SBICs and public welfare investment funds. An issuer:”

§ 255.20 [Corrected]

7. On page 46529, in the first column, in 17 CFR 255.20, in amendment 35b., add the words “introductory text” after the words “paragraph (d)(1)”.

Jonathan V. Gould,
Senior Deputy Comptroller and Chief Counsel, Office of the Comptroller of the Currency.
Board of Governors of the Federal Reserve System.
Ann E. Misback,
Secretary of the Board.
Federal Deposit Insurance Corporation.
Dated at Washington, DC, on or about September 18, 2020.
James P. Sheesley,
Acting Assistant Executive Secretary.
Commodity Futures Trading Commission.
Dated: September 21, 2020.
Robert Sidman,
Deputy Secretary of the Commission.
By the Securities and Exchange Commission.
Vanessa A. Countryman,
Secretary.

[FR Doc. 2020-21100 Filed 9-24-20; 8:45 am]

BILLING CODE P